DEPARTMENT OF COMMERCE

National Oceanic and Atmospheric Administration

50 CFR Part 648

[Docket No. 250402-0059; RTID 0648-XE621]

Fisheries of the Northeastern United States; Monkfish Fishery; 2025 Monkfish Specifications

AGENCY: National Marine Fisheries Service (NMFS), National Oceanic and Atmospheric Administration (NOAA), Commerce.

ACTION: Final rule.

SUMMARY: NMFS is implementing specifications for the 2025 monkfish fishery. This action is necessary to ensure allowable monkfish harvest levels that will prevent overfishing and allow harvesting of optimum yield. This action is intended to establish the allowable 2025 harvest levels, consistent with the Monkfish Fishery Management Plan and previously announced multi-year specifications.

DATES: The final specifications for the 2025 monkfish fishery are effective May 7, 2025, through April 30, 2026.

FOR FURTHER INFORMATION CONTACT: Spencer Talmage, Fishery Policy Analyst, (978) 281-9232.

SUPPLEMENTARY INFORMATION: The New England and Mid-Atlantic Fishery Management Councils (together, the Councils) jointly manage the monkfish fishery. The Monkfish Fishery Management Plan includes a specifications process that requires the Councils to recommend quotas on a triennial basis. This action finalizes 2025 specifications approved by the Councils in Framework Adjustment 13 to the Monkfish Fishery Management Plan, which included specifications for fishing years 2023-2025.

On August 11, 2023, NMFS published a final rule approving Framework 13 measures for the 2023 fishing year (88 FR 54495), based on a recent stock assessment update and consistent with the New England Council's Scientific and Statistical Committee recommendations. At that time, NMFS also projected a continuation of those same specifications for 2024 and 2025. As stated in the preamble of that final rule, the regulations at 50 CFR 648.96(d) require the Councils to revise the monkfish ACT if the annual catch limit is exceeded in any given year; if the Councils failed to act, NMFS would revise the monkfish ACT, and any revisions to the specifications in the event of an overage would be published in the Federal Register. NMFS has reviewed the available information on fishing years 2023 and 2024. There have been no annual catch limit overages, nor is there any new biological information that would require altering the projected 2025 specifications. Based on this, we are implementing the fishing year 2025 specifications announced in the Framework 13 final rule.

The final total allowable landings in both the Northern and Southern Fishery Management Areas for 2025 are summarized in table 1. The 2025 measures are the same as those implemented in 2023 and 2024. The 2025 specifications will be effective until April 30, 2026. This final rule makes no modification to other management measures for the monkfish fishery (e.g., trip limits, Days-At-Sea allocations, etc.).

Table 1—Monkfish Specifications for Fishing Year 2025
[In metric tons]
Catch limits | Northern area | Southern area
Acceptable Biological Catch | 6,224 | 5,861
Annual Catch Limit | 6,224 | 5,861
Management Uncertainty (3 percent) | 187 | 176
Annual Catch Target (Total Allowable Landings + discards) | 6,038 | 5,685
Expected Discards | 729 | 2,205
Total Allowable Landings | 5,309 | 3,481

Classification

NMFS is issuing this rule pursuant to 305(d) of the Magnuson-Stevens Act. In a previous action taken pursuant to section 304(b), the FMP authorized NMFS to take this action pursuant to MSA section 305(d). See 50 CFR 648.96(c)(1)(iii). The NMFS Assistant Administrator has determined that this final rule is consistent with the Monkfish Fishery Management Plan, other provisions of the Magnuson-Stevens Act, and other applicable law.

This final rule is exempt from review under Executive Order 12866 and is not a regulatory action under Executive Order 14192.

Pursuant to 5 U.S.C. 553(b)(3)(B), we find good cause to waive prior public notice and opportunity for public comment on the catch limit and allocation adjustments because allowing time for notice and comment is unnecessary. This action follows the substance and process set forth in the Framework 13 final rule. The Framework 13 proposed rule provided the public with the opportunity to comment on the 2023-2025 specifications (88 FR 25351, April 26, 2023). Two comments were received on the proposed rule, only one of which specifically addressed the 2023-2025 specifications. This comment supported these specifications. Thus, the proposed and final rules that contained the projected 2023-2025 specifications provided a full opportunity for the public to comment on the substance and process of this action. No circumstances or conditions have changed in the monkfish fishery that would cause new concern or necessitate reopening the comment period and the final 2025 specifications being implemented by this rule are unchanged from those projected in the Framework 13 final rule.

The Chief Counsel for Regulation, Department of Commerce, previously certified to the Chief Counsel for Advocacy of the Small Business Administration (SBA) that the 2023-2025 monkfish specifications would not have a significant economic impact on a substantial number of small entities. Implementing status quo specifications for 2025 will not change the conclusions drawn in that previous certification to the SBA. Because advance notice and the opportunity for public comment are not required for this action under the Administrative Procedure Act, or any other law, the analytical requirements of the Regulatory Flexibility Act, 5 U.S.C. 601 et seq., do not apply to this rule. Therefore, no new regulatory flexibility analysis is required and none has been prepared.

This final rule contains no information collection requirements under the Paperwork Reduction Act of 1995.

Authority: 16 U.S.C. 1801 et seq.

Dated: April 2, 2025.
Samuel D. Rauch III,
Deputy Assistant Administrator for Regulatory Programs, National Marine Fisheries Service.

[FR Doc. 2025-05938 Filed 4-4-25; 8:45 am]

BILLING CODE 3510-22-P